DEPARTMENT OF COMMERCE

National Oceanic and Atmospheric Administration

[I.D. 022404C]

Mid-Atlantic Fishery Management Council; Public Meetings

AGENCY: National Marine Fisheries Service (NMFS), National Oceanic and Atmospheric Administration (NOAA), Commerce.

ACTION: Notice of public meeting.

SUMMARY: The Mid-Atlantic Fishery Management Council (Council) and its Research Set Aside (RSA) Committee, Executive Committee, and Fisheries Issues Focus Committee will hold public meetings.

DATES: The meetings will be held Tuesday, March 16, through Thursday, March 18, 2004. See SUPPLEMENTARY INFORMATION for specific dates and times.

ADDRESSES: This meeting will be held at the Shell Island Resort Hotel, 2700 N. Lumina Avenue, Wrightsville Beach, NC; telephone: 910-256-8696.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION:

Tuesday, March 16, 2004

10 a.m. until noon The Council will tour a local area Summer Flounder and Black Sea Bass Mariculture Facility.

1 p.m. to 3:30 p.m. The Research Set Aside Committee will meet.

3:30 p.m. to 5 p.m. The Executive Committee will meet.

6:30 p.m. to 9 p.m. There will be a New England Council Scoping Hearing on its Omnibus Essential Fishing Habitat (EFH) Amendment.

Wednesday, March 17, 2004

8 a.m. to 10 a.m. The Fisheries Issues Focus Committee will meet.

10 a.m. until 3:30 p.m. The Council will meet.

4 p.m. to 8 p.m. The Council will visit the Wrightsville Beach U.S. Coast Guard (USCG) Station.

Thursday, March 18, 2004

8 a.m. until noon The Council will meet.

Agenda items for the Council's committees and the Council itself are: Describe and discuss the RSA program and 2005 Request for Proposal (RFP), review RSA grants review/approval process, discuss possible RSA program improvements, discuss how the RSA program should be incorporated into NMFS science and management programs; Review the Council's selection criteria for industry advisors, and address future committee items; Discuss how slot sizes may be used in recreational fisheries, address using market forces to mitigate impacts of restrictive fishery regulations, discuss Marine Recreational Fishery Statistics Survey (MRFSS) Program and its implications for future, review and discuss Council's October 2003 action regarding summer flounder petition; Review Framework 5 options regarding multi-year setting of specifications for summer flounder, scup and black sea bass; Receive a presentation on seafood labeling and an overview of current USCG operations and issues; the Council will also receive and discuss organizational and committee reports including the New England Council's report regarding possible actions on herring, groundfish, monkfish, red crab, scallops, skates, and whiting, the South Atlantic Council report, and act on any new and/or old business.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council's intent to take final actions to address such emergencies.

Special Accommodations

These meetings are physically accessible to people with disabilities. Requests for sign language interpretation or other auxiliary aids should be directed to Joanna Davis at the Council (see ADDRESSES) at least 5 days prior to the meeting date.

Dated: February 25, 2004.
Peter H. Fricke,
Acting Director, Office of Sustainable Fisheries, National Marine Fisheries Service.

[FR Doc. 04-4608 Filed 3-1-04; 8:45 am]

BILLING CODE 3510-22-S